DEPARTMENT OF COMMERCE

National Oceanic and Atmospheric Administration

RIN 0648-XF394

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Committee to consider actions affecting New England fisheries in the exclusive economic zone (EEZ). Recommendations from this group will be brought to the full Council for formal consideration and action, if appropriate.

DATES: This meeting will be held on Thursday, June 1, 2017 at 9:30 a.m.

ADDRESSES: Meeting address: The meeting will be held at the Courtyard by Marriott Boston Logan Airport, 225 William McClennan Highway, Boston, MA 02128; phone: (617) 569-5250.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Scallop Committee will review the general workload for 2017 based on Council priorities and a draft action plan for Scallop Framework 29 (FW29) and potentially identify recommendations for prioritizing work items in upcoming actions. They will also review progress on potential management measures that may be included in FW29, including: (1) Flatfish accountability measures; (2) Modifications to the management of the Northern Gulf of Maine area; (3) Measures to modify scallop access areas consistent with potential changes to habitat and groundfish mortality closed areas. The committee will also discuss the establishment of a control date that may limit the ability of Limited Access General Category (LAGC) permit holders to move between permit categories. They will provide research recommendations for the 2018/19 Scallop Research Set-Aside (RSA) federal funding announcement. Other business may be discussed as necessary.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date. Consistent with 16 U.S.C. 1852, a copy of the recording is available upon request.

Authority: 16 U.S.C. 1801 et seq.

Dated: May 10, 2017.
Tracey L. Thompson,
Acting Deputy Director, Office of Sustainable Fisheries, National Marine Fisheries Service.

[FR Doc. 2017-09832 Filed 5-15-17; 8:45 am]

BILLING CODE 3510-22-P